DEPARTMENT OF HOUSING AND URBAN DEVELOPMENT

[Docket No. FR-5477-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-(800) 927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of the Army, Office of the Assistant Chief of Staff for Installation Management, +-DAIM-ZS, Room 8536, 2511 Jefferson Davis Hwy, Arlington, VA 22202: (571) 256-8145; GSA: Mr. Gordon Creed, Acting Deputy Assistant Commissioner, General Services Administration, Office of Property Disposal, 18th & F Streets NW., Washington, DC 20405; (202) 501-0084; Interior: Mr. Michael Wright, Acquisition & Property Management, Department of the Interior, 1801 Pennsylvania Ave. NW., 4th Floor, Washington, DC 20006: (202) 254-5522;

Navy: Mr. Steve Matteo, Department of the Navy, Asset Management Division, Naval Facilities Engineering Command, Washington Navy Yard, 1330 Patterson Ave. SW., Suite 1000, Washington, DC 20374; (202) 685-9426 (These are not toll-free numbers).

Dated: December 15, 2011.
Mark R. Johnston,
Deputy Assistant Secretary for Special Needs.

TITLE V, FEDERAL SURPLUS PROPERTY PROGRAM FEDERAL REGISTER REPORT FOR 12/23/2011

Suitable/Available Properties

Building

Alabama

Bldg. 8404

Redstone Arsenal

Redstone Arsenal AL 35898

Landholding Agency: Army

Property Number: 21201140050

Status: Unutilized

Comments: off-site removal only; 430 sq. ft.; current use: explosive testing; needs extensive repairs; possible asbestos and lead base paint

Kentucky

Bldg. 2980

Ft. Knox

Ft. Knox KY 40121

Landholding Agency: Army

Property Number: 21201140078

Status: Unutilized

Comments: off-site removal only; 6,900 sq. ft.; current use: office; possible asbestos and mold

Bldg. 1197

Ft. Knox

Ft. Knox KY 40121

Landholding Agency: Army

Property Number: 21201140079

Status: Unutilized

Comments: off-site removal only; 2,969 sq. ft; current use: office; possible lead base paint, asbestos, and mold

Rhode Island

FDA Davisville Site

113 Bruce Boyer Street

North Kingstown RI 02852

Landholding Agency: GSA

Property Number: 54201130008

Status: Excess

GSA Number: 1-F-RI-0520

Comments: 4,100 sq. ft.; recent use: storage; property currently has no heating (all repairs is the responsibility of owner)

South Dakota

Main House

Lady C Ranch Rd.

Hot Springs SD 57747

Landholding Agency: GSA

Property Number: 54201130011

Status: Surplus

GSA Number: 7-A-0523-3-AE

Comments: Off-site removal only; The property is a 2-story structure with 1,024 sq. ft. per floor for a total of 2,048 sq. ft.; structure type: Log Cabin; recent use: residential

Main Garage

Lady C Ranch Rd.

Hot Springs SD 57747

Landholding Agency: GSA

Property Number: 54201130012

Status: Surplus

GSA Number: 7-A-SD-0523-3-AF

Comments: Off-site removal only; 567 sq. ft.; structure type: Log Frame; recent use: vehicle storage

Metal Machine/Work Bldg.

Lady C Ranch Rd.

Hot Springs SD 57747

Landholding Agency: GSA

Property Number: 54201130013

Status: Surplus

GSA Number: 7-A-SD-0523-3-AG

Comments: Off-site removal only; 3,280 sq. ft.; structure type: Post/Pole w/Metal Siding; recent use: utility shed

Mobile Home

Lady C Ranch Rd.

Hot Springs SD 57477

Landholding Agency: GSA

Property Number: 54201130014

Status: Surplus

GSA Number: 7-A-0523-3-AH

Comments: Off-site removal only; 1,152 sq. ft.; structure type: manufactured home/double wide; recent use: residential

Mobile Home Garage

Lady C Ranch Rd.

Hot Springs SD 57747

Landholding Agency: GSA

Property Number: 54201130015

Status: Surplus

GSA Number: 7-A-SD-0523-3-AI

Comments: Off-site removal only; 729 sq. ft.; structure type: Post/Pole construction w/metal side; recent use: storage

Virginia

Bldgs. 00031 & 00017

8000 Jefferson Davis Hwy

Richmond VA 23297

Landholding Agency: Army

Property Number: 21201140039

Status: Underutilized

Comments: off-site removal only; sq. ft. varies; bldgs. in good condition; current use: Admin./warehouse

Washington

Ran West Bunkhouse

418 Sikverbrook Rod.

Randle WA 98377

Landholding Agency: GSA

Property Number: 54201140007

Status: Excess

GSA Number: 9-A-WA-1258

Comments: Double wide trailer for off-site removal only; 960 sq. ft.; current use: bunkhouse

2 Bldgs.

Bureau of Reclamation

Sunnyside WA

Landholding Agency: Interior

Property Number: 61201130003

Status: Excess

Directions: Storehouse and Lumber Shed

Comments: Off-site removal only for both bldgs.; Storehouse: 4,400 sq. ft.; Lumber Shed: 800 sq. ft.; bldgs. in poor condition—need repairs; lead-base paint is present in bldgs.

Suitable/Available Properties

Land

North Dakota

Vacant Land of MSR Site

Stanley Mickelsen

Nekoma ND

Landholding Agency: GSA

Property Number: 54201130009

Status: Surplus

GSA Number: 7-D-ND-0499

Comments: 20.2 acres; recent use: unknown

Oklahoma

Tract No. 346

Bureau of Reclamation

N of Altus OK

Landholding Agency: Interior

Property Number: 61201140009

Status: Excess

Comments: 1.45 acres; current use: canal

Pennsylvania

Marienville Lot

USDA Forest Service

Marienville PA

Landholding Agency: GSA

Property Number: 54201140005

Status: Excess

GSA Number: 4-A-PA-807AD

Comments: 2.42 acres; current use: unknown

Suitable/Unavailable Properties

Building

Arizona

Willcox Patrol Station

200 W. Downew Street

Willcox AZ 85643-2742

Landholding Agency: GSA

Property Number: 54201110004

Status: Surplus

GSA Number: 9-X-AZ-0860

Comments: 2,448 sq. ft., most recent use: detention facility

California

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs

Former SSA Bldg.

1230 12th Street

Modesto CA 95354

Landholding Agency: GSA

Property Number: 54201020002

Status: Surplus

GSA Number: 9-G-CA-1610

Comments: 11,957 sq. ft., needs rehab/seismic retrofit work, potential groundwater contamination below site, potential flooding

Georgia

Fed. Bldg. Post Office/Court

404 N. Broad St.

Thomasville GA 31792

Landholding Agency: GSA

Property Number: 54201110006

Status: Surplus

GSA Number: 4-G-GA-878AA

Comments: 49,366 total sq. ft. Postal Svc currently occupies 11,101 sq. ft. through Sept. 30, 2012. Current usage: gov't offices, asbestos has been identified as well as plumbing issues.

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified, most current use: unknown.

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Maryland

Appraisers Store

Baltimore MD 21202

Landholding Agency: GSA

Property Number: 54201030016

Status: Excess

GSA Number: 4-G-MD-0623

Comments: 169,801 sq. ft., most recent use—federal offices, listed in the Nat'l Register of Historic Places, use restrictions

Michigan

CPT George S. Crabbe USARC

2901 Webber Street

Saginaw MI

Landholding Agency: GSA

Property Number: 54201030018

Status: Excess

GSA Number: 1-D-MI-835

Comments: 3891 sq. ft., 3-bay garage maintenance building

Minnesota

FAA Outer Marker

9935 Newton Ave.

Minneapolis MN 55431

Landholding Agency: GSA

Property Number: 54201120010

Status: Excess

GSA Number: 1-I-MN-594

Comments: Public space and utilities easements; 108 sq. ft.

Minnesota

Bldg. 921

W. Main St.

Paynesville MN

Landholding Agency: GSA

Property Number: 54201120017

Status: Excess

GSA Number: 1-D-MN-0591

Comments: Bldg: 5,486 sf, Land: 3.9 acres, current use: Admin./Training Facility

Mississippi

James O. Eastland

245 East Capitol St.

Jackson MS 39201-2409

Landholding Agency: GSA

Property Number: 54201040020

Status: Excess

GSA Number: 4-G-MS-0567-AA

Directions: Federal Bldg. and Courthouse

Comments: 14,000 sq. ft., current/recent use: gov't offices and courtrooms, asbestos identified behind walls, and historic bldg. preservation covenants will be included in the Deed of Conveyance

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

Kirksville Property

FAA

Kirksville MO

Landholding Agency: GSA

Property Number: 54201120016

Status: Surplus

GSA Number: 7-U-MO-0690

Comments: 6 × 10, recent use: antenna tower

Montana

Swan Lake Guard Station

MP69 HWY 83 South

Swan Lake MT 55911

Landholding Agency: GSA

Property Number: 54201130004

Status: Surplus

GSA Number: 7-A-MT-0514-2

Comments: Off-site removal only; 615 sq. ft, recent use: office space

Rising Sun Boat

St. Mary Lake Glacier Nat'l Park

St. Mary Lake MT 59911

Landholding Agency: GSA

Property Number: 54201130005

Status: Surplus

GSA Number: 7-I-MT-0544-3

Comments: Off-site removal only; 358 sq. ft.; recent use: ticket office

Kalispell Shop

1899 Airport Rd.

Kalispell MT 59901

Landholding Agency: GSA

Property Number: 54201130006

Status: Surplus

GSA Number: 7-A-MT-0632

Comments: Off-site removal only; 560 sq. ft.; recent use: storage bldg.

Boulder Admin. Site

12 Depot Hill Rd.

Boulder MT 59632

Landholding Agency: GSA

Property Number: 54201130016

Status: Excess

GSA Number: 7-A-MT-532-AA

Comments: 4,799 sq. ft.; recent use: office, repairs are needed

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

South Carolina

Naval Health Clinic

3600 Rivers Ave.

Charleston SC 29405

Landholding Agency: GSA

Property Number: 54201040013

Status: Excess

GSA Number: 4-N-SC-0606

Comments: Redetermination: 399,836 sq. ft., most recent use: office

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Texas

FAA RML Facility

11262 N. Houston Rosslyn Rd.

Houston TX 77086

Landholding Agency: GSA

Property Number: 54201110016

Status: Surplus

GSA Number: 7-U-TX-1129

Comments: 448 sq. ft., recent use: storage, asbestos has been identified in the floor

Rattle Snake Scoring Ste.

1085 County Rd. 332

Pecos TX 79772

Landholding Agency: GSA

Property Number: 54201120005

Status: Excess

GSA Number: 7-D-TX-0604-AM

Comments: 8,396 sq. ft., most recent use: training ste., previously reported by Air Force and deemed “unsuitable” because property was in a secured area and published in May 2009.

Virginia

Tract 05-511, Qrts. 11

7941 Brock Rd.

Spotsylvania VA 22553

Landholding Agency: GSA

Property Number: 54201110001

Status: Excess

GSA Number: 4-I-VA-0756

Comments: 1642 sq. ft., off-site removal only, previously reported by Interior and published as suitable/available in the 10.22.2010 FR

Hampton Rds, Shore Patrol Bldg

811 East City Hall Ave

Norfolk VA 23510

Landholding Agency: GSA

Property Number: 54201120009

Status: Excess

GSA Number: 4-N-VA-758

Comments: 9,623 sq. ft.; current use: storage, residential

Washington

Fox Island Naval Lab

630 3rd Ave.

Fox Island WA 98333

Landholding Agency: GSA

Property Number: 54201020012

Status: Surplus

GSA Number: 9-D-WA-1245

Comments: 6405 sq. ft.; current use: office and lab

West Virginia

Naval Reserve Center

841 Jackson Ave.

Huntington WV 25704

Landholding Agency: GSA

Property Number: 54200930014

Status: Excess

GSA Number: 4-N-WV-0555

Comments: 31,215 sq. ft., presence of asbestos/lead paint, most recent use—office

Harley O. Staggers Bldg.

75 High St.

Morgantown WV 26505

Landholding Agency: GSA

Property Number: 54201020013

Status: Excess

GSA Number: 4-G-WV-0557

Comments: 57,600 sq. ft; future owners must maintain exposure prevention methods (details in deed); most recent use: P.O. and federal offices

Suitable/Unavailable Properties

Land

Arizona

0.23 acres

87th Ave.

Glendale AZ

Landholding Agency: GSA

Property Number: 54201010005

Status: Excess

GSA Number: 9-I-AZ-853

Comments: 0.23 acres used for irrigation canal

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Parcel F-2 Right of Way

null

Seal Beach CA 90740

Landholding Agency: GSA

Property Number: 54201030012

Status: Surplus

GSA Number: 9-N-CA-1508-AI

Comments: Correction: 631.62 sq. ft., encroachment

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #22

null

Ford City CA 93268

Landholding Agency: GSA

Property Number: 54201040009

Status: Surplus

GSA Number: 9-B-CA-1673-AF

Comments: 2.07 acres, mineral rights, utility easements

Drill Site #24

null

Ford City CA 93268

Landholding Agency: GSA

Property Number: 54201040010

Status: Surplus

GSA Number: 9-B-CA-1673-AE

Comments: 2.06 acres, mineral rights, utility easements

Drill Site #26

null

Ford City CA 93268

Landholding Agency: GSA

Property Number: 54201040011

Status: Surplus

GSA Number: 9-B-CA-1673-AA

Comments: 2.07 acres, mineral rights, utility easements

Colorado

Common Pt. Shooting Rng.

Bureau of Reclamation

Drake CO 80515

Landholding Agency: GSA

Property Number: 54201120003

Status: Excess

GSA Number: 7-1-CO—0678

Comments: 35.88 acres; If the purchaser ceases using the property as a firing range they will be held to a higher standard of lead remediation by the local and Federal environmental protection agencies.

Louisiana

Almonaster

4300 Almonaster Ave.

New Orleans LA 70126

Landholding Agency: GSA

Property Number: 54201110014

Status: Surplus

GSA Number: 7-D-LA-0576

Comments: 9.215 acres

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

Pennsylvania

approx. 16.88

271 Sterrettania Rd.

Erie PA 16506

Landholding Agency: GSA

Property Number: 54200820011

Status: Surplus

GSA Number: 4-D-PA-0810

Comments: vacant land

Texas

FAA Outermarker—Houston

Spring TX 77373

Landholding Agency: GSA

Property Number: 54201040001

Status: Surplus

GSA Number: 7-U-TX-1110

Comments: 0.2459 acres, subject to restrictions/regulations regarding the Houston Intercontinental Airport, may not have access to a dedicated roadway

FAA

Directional Finder

Lampasas TX

Landholding Agency: GSA

Property Number: 54201120015

Status: Excess

GSA Number: 7-U-TX-1131

Comments: 1.51 acres

Parcel 2

Camp Bowie

Brownwood TX 76801

Landholding Agency: GSA

Property Number: 54201130001

Status: Surplus

GSA Number: 7-D-TX-0589

Comments: 22.58 acres, two storage units on land approx. 600 sq. ft., recent use: storage, legal constraints: access easement, 10% of property in floodway

Unsuitable Properties

Building

Alabama

4 (PADS) Bldgs.

7 Frankford Ave

Anniston Army Depot

Anniston AL

Landholding Agency: Army

Property Number: 21201140043

Status: Unutilized

Directions: 00810, 00814, 00815, M5001

Reasons: Contamination, Within 2000 ft. of flammable or explosive material, Secured Area

Bldg 00807

7 Frankford Ave

Anniston Army Depot

Anniston AL 36201

Landholding Agency: Army

Property Number: 21201140044

Status: Unutilized

Reasons: Contamination, Within 2000 ft. of flammable or explosive material, Secured Area

5 Bldgs.

Redstone Arsenal

Redstone Arsenal AL 35898

Landholding Agency: Army

Property Number: 21201140045

Status: Unutilized

Directions: 7359A, 7359B, 7359C, 1401A, 01401

Reasons: Contamination, Secured Area, Extensive deterioration

Bldg 7358A

Sandpiper Road

Redstone Arsenal AL 35898

Landholding Agency: Army

Property Number: 21201140047

Status: Unutilized

Reasons: Within 2000 ft. of flammable or explosive material, Secured Area

Bldg C1302

Fort McClellan AL 36205

Landholding Agency: Army

Property Number: 21201140073

Status: Unutilized

Reasons: Secured Area, Extensive deterioration

Bldg 28150

RT 52, Highfalls Stagefield

Fort Rucker AL 36344

Landholding Agency: Army

Property Number: 21201140074

Status: Unutilized

Reasons: Extensive deterioration, Secured Area, Isolated area

California

2 Bldgs

Sierra Army Depot

Herlong CA 96113

Landholding Agency: Army

Property Number: 21201140076

Status: Unutilized

Directions: 00349, 00587

Reasons: Secured Area, Extensive deterioration, Contamination

Bldg 00203

4th Street, Sierra Army Depot

Herlong CA 96113

Landholding Agency: Army

Property Number: 21201140077

Status: Unutilized

Reasons: Secured Area, Contamination

Colorado

10 Bldgs

Pueblo Chemical Depot

Pueblo CO 81006

Landholding Agency: Army

Property Number: 21201140062

Status: Excess

Directions: 0015S, 0016A, 0016S, 0017S, 0018S, 0019S, 00S34, 0014S, 0013S, 0012S

Reasons: Secured Area, Contamination

Bldg 00034

Pueblo Chemical Depot

Pueblo CO 81006

Landholding Agency: Army

Property Number: 21201140066

Status: Excess

Comments: not cost effective to repair

Reasons: Extensive deterioration

Hawaii

7 Bldgs.

91-1227 Enterprise Ave

Kalaeloa

Kapolei HI 96707

Landholding Agency: Army

Property Number: 21201140046

Status: Unutilized

Directions: 01676, 01677, 01818, 01875, 01954, 00537, 00182

Reasons: Extensive deterioration, Secured Area

Bldg 01537

124 Takata Road

Honolulu HI 96819

Landholding Agency: Army

Property Number: 21201140075

Status: Unutilized

Reasons: Secured Area, Extensive deterioration

Idaho

Bldg 00253

4097 W. Cessna St.

Gowen Field 16A20

Boise ID 83705

Landholding Agency: Army

Property Number: 21201140068

Status: Excess

Reasons: Extensive deterioration, Secured Area

Kansas

Bldg 00512 & 00617

Fort Riley

Fort Riley KS 66442

Landholding Agency: Army

Property Number: 21201140064

Status: Unutilized

Reasons: Secured Area

Maryland

Bldg 00517

517 Blossom Point Road

Blossom Point Research Facility

Welcome MD 20693

Landholding Agency: Army

Property Number: 21201140040

Status: Unutilized

Reasons: Extensive deterioration, Secured Area

Bldg. 00402

402 Blossom Point Road

Blossom Point Research Facility

Welcome MD 20693

Landholding Agency: Army

Property Number: 21201140041

Status: Unutilized

Reasons: Within 2000 ft. of flammable or explosive material, Secured Area

Bldg. 178NS

Naval Support Activity

Annapolis MD 21402

Landholding Agency: Navy

Property Number: 77201140017

Status: Underutilized

Comments: Building damaged and considered condemned due to automobile accident

Reasons: Extensive deterioration

Missouri

Bldg T62-9

Lake City Army Ammunition Plant

Independence MO 64051

Landholding Agency: Army

Property Number: 21201140071

Status: Underutilized

Reasons: Contamination, Secured Area

2 Bldgs.

Railroad Ave.

Fort Leonard Wood MO 65473

Landholding Agency: Army

Property Number: 21201140072

Status: Unutilized

Directions: 02351, 02352

Reasons: Secured Area

New Jersey

9 Bldgs.

Pictinny Arsenal

Dover NJ 07806

Landholding Agency: Army

Property Number: 21201140034

Status: Unutilized

Directions: 00639,00623, 00623A, 00623B, 0623C, 0623D, 0623E, 0075, 0075A

Reasons: Extensive deterioration, Secured Area

5 Bldgs.

Picatinny Arsenal

Dover NJ 07806

Landholding Agency: Army

Property Number: 21201140035

Status: Unutilized

Directions: 00281, 03013, 00332, 0623F, 0639A

Reasons: Secured Area, Extensive deterioration, Contamination

Rhode Island

Bldg. 000P2

570 Read Schoolhouse Rd.

Coventry RI 02816

Landholding Agency: Army

Property Number: 21201140038

Status: Excess

Reasons: Contamination, Secured Area

Tennessee

Bldgs. 5291 & A1584

Fort Campbell Military Installation

Fort Campbell TN 42223

Landholding Agency: Army

Property Number: 21201140042

Status: Unutilized

Reasons: Secured Area, Extensive deterioration

Texas

4 Bldgs.

Joint Base San Antonio

Houston TX 78234

Landholding Agency: Air Force

Property Number: 18201140063

Status: Unutilized

Directions: 4112, 4113, 4114, 4124

Comments: not feasible to repair

Reasons: Extensive deterioration

Bldg 1674

42nd & Old Ironsides

Fort Hood TX 76544

Landholding Agency: Army

Property Number: 21201140065

Status: Excess

Reasons: Secured Area, Contamination

Bldg 04920

Santa Fe Ave & Clear Creek Road

Fort Hood TX 76544

Landholding Agency: Army

Property Number: 21201140067

Status: Unutilized

Reasons: Contamination, Secured Area

Virginia

14 Bldgs.

Bldg. T0472

Fort Pickett Training Center

Blackstone VA 23824

Landholding Agency: Army

Property Number: 21201140036

Status: Excess

Directions: T0116, T0207, T0208, T0209, T0210, T0114, T0115, T0211, T0213, T0214, T0306, T0307, T0310, T0313

Reasons: Extensive deterioration, Secured Area, Contamination

20 Bldgs.

Fort Pickett Training Center

Blackstone VA 23824

Landholding Agency: Army

Property Number: 21201140037

Status: Unutilized

Directions: T2807, T1312, T1317, T1319, T1348, T1349, T1350, T1351, T1352, T1353, T1356, T1360, T1361, T1362, T1808, T2304, T2305, T2306, T2800, T2801

Reasons: Contamination, Secured Area, Extensive deterioration

4 Bldgs.

8000 Jefferson Davis Hwy

Defense Supply Center

Richmond VA 23297

Landholding Agency: Army

Property Number: 21201140063

Status: Unutilized

Directions: 00091, 00006, 00007, 00010

Reasons: Secured Area

Bldg 00104

8000 Jefferson Davis Hwy

Richmond VA 23297

Landholding Agency: Army

Property Number: 21201140069

Status: Unutilized

Reasons: Secured Area

Bldg HH025

1555 South Gate Road

Arlington VA 22214

Landholding Agency: Army

Property Number: 21201140070

Status: Underutilized

Reasons: Secured Area, Extensive deterioration

Wisconsin

3 Bldgs.

Fort McCoy

Fort McCoy WI 54656

Landholding Agency: Army

Property Number: 21201140061

Status: Underutilized

Directions: 00446, 00447, 02003

Reasons: Extensive deterioration, Secured Area

Unsuitable Properties

Land

Oklahoma

Pine River Project

Bureau of Reclamation

N of Altus OK

Landholding Agency: Interior

Property Number: 61201140008

Status: Excess

Reasons: Secured Area

[FR Doc. 2011-32553 Filed 12-22-11; 8:45 am]

BILLING CODE 4210-67-P